DEPARTMENT OF THE INTERIOR

Bureau of Land Management

[WY-920-1430-FR; WYW-137524]

Notice of Realty Action: Recreation and Public Purposes Act Lease/Patent of Public Lands in Converse County, WY

AGENCY: Bureau of Land Management, Interior.

ACTION: Notice.

SUMMARY: The Bureau of Land Management (BLM) has examined and found suitable for lease and conveyance under the provisions of the Recreation and Public Purposes (R&PP) Act, as amended, approximately 15.29 acres of public land in Converse County, Wyoming. Converse County proposes to use the land for a primitive park.

DATES: Interested parties may submit comments regarding the proposed lease/conveyance of the lands until November 6, 2008.

ADDRESSES: Send written comments to the Field Manager, Casper Field Office, 2987 Prospector Drive, Casper, Wyoming 82604.

FOR FURTHER INFORMATION CONTACT: Joe Meyer, Field Manager, Bureau of Land Management, Casper Field Office, at (307) 261-7600.

SUPPLEMENTARY INFORMATION: The following described public land in Converse County, Wyoming, has been examined and found suitable for lease and conveyance under the provisions of the R&PP Act, as amended (43 U.S.C. 869 et seq.):

Sixth Principal Meridian, Wyoming

T. 28 N., R. 71 W.,

Sec. 9, Esterbrook Townsite, block 1, lots 6-10; block 2, lots 6-9, 11-15; block 3, lots 6-15; block 4, lots 3-5, 12-18; block 5, lots 1-13; block 6, lots 1-19; block 7, lots 1-4, 21, 23-30.

The land described contains 15.29 acres, more or less.

In accordance with the R&PP Act, Converse County filed an application to lease with eventual purchase the above-described 15.29 acres of public land which was classified for R&PP use in 1965. Converse County proposes to use the land for a primitive park. Additional detailed information pertaining to this application, plan of development, and site plan is in case file W-137524, located in the BLM Casper Field Office at the above address.

The land is not needed for any Federal purpose. The lease/conveyance is consistent with the Casper Resource Management Plan dated December 7, 2007, and would be in the public interest. The patent, when issued, will be subject to the provisions of the R&PP Act and applicable regulations of the Secretary of the Interior, and will contain the following reservations to the United States:

1. A right-of-way thereon for ditches or canals constructed by the authority of the United States, Act of August 30, 1890 (43 U.S.C. 945); and

2. All minerals, together with the right to prospect for, mine, and remove such deposits from the same under applicable law and such regulations as the Secretary of the Interior may prescribe.

The patent will be subject to all valid existing rights documented on the official public land records at the time of patent issuance.

Comments: Interested parties may submit comments regarding the use of the land for a primitive park as proposed in the application and plan of development, whether the BLM followed proper administrative procedures in reaching the decision to lease/convey under the R&PP Act, or any other factor not directly related to the suitability of the land for R&PP use.

Confidentiality of Comments: Before including your address, phone number, e-mail address, or other personal identifying information in your comment, you should be aware that your entire comment—including your personal identifying information—may be made publicly available at any time. While you can ask us in your comment to withhold your personal identifying information from public review, we cannot guarantee that we will be able to do so. Only written comments submitted by postal service or overnight mail to the Field Manager—BLM Casper Field Office will be considered properly filed. Electronic mail, facsimile or telephone comments will not be considered properly filed.

Any adverse comments will be reviewed by the State Director. In the absence of any adverse comments, the decision to lease/convey the land as described in this notice will become effective November 21, 2008.

Authority: 43 CFR 2740.

Joe Meyer,
Field Manager, Casper, WY.

[FR Doc. E8-22051 Filed 9-19-08; 8:45 am]

BILLING CODE 4310-22-P